DEPARTMENT OF EDUCATION

Elementary School Counseling Demonstration Program

AGENCY: Department of Education.

ACTION: Notice of final priority and selection criteria.

SUMMARY: The Assistant Secretary announces the final priority and selection criteria for fiscal year (FY) 2000 under the Elementary and Secondary Education Act, Title X—Programs of National Significance, Part A—Fund for the Improvement of Education—Section 10102, Elementary School Counseling Demonstration Program. The Office of Elementary and Secondary Education, Safe and Drug-Free Schools Program will administer this new grant competition. The Assistant Secretary takes this action to focus Federal financial assistance on establishing and expanding elementary school counseling programs. The Assistant Secretary may use this priority for competitions in fiscal year (FY) 2000 and later years.

EFFECTIVE DATE: This notice of priority and selection criteria takes effect on May 18, 2000.

FOR FURTHER INFORMATION CONTACT: Loretta Riggans, Safe and Drug-Free Schools Program, U.S. Department of Education, 400 Maryland Avenue, SW., Room 3E220, Washington, DC 20202-6123. Telephone: (202) 260-2661, email address: Loretta_Riggans@ed.gov, Fax: (202) 260-7767. Internet: http://www.ed.gov/offices/OESE/SDFS. If you use a telecommunications device for the deaf (TDD), you may call the Federal Information Relay Service (FIRS) at 1-800-877-8339.

Individuals with disabilities may obtain this document in an alternative format (e.g. Braille, large print, audiotape, or computer diskette) upon request to the contact person listed in the preceding paragraph.

Note: This notice of final priority does not solicit applications. A notice inviting applications under this competition is published elsewhere in this issue of the Federal Register.

SUPPLEMENTARY INFORMATION: This notice contains the final priority and selection criteria for the Elementary School Counseling Demonstration Program (CFDA #84.215E).

The Assistant Secretary may make awards for up to 36 months to local educational agencies (LEAs) to establish or expand elementary school counseling programs.

In making awards under this grant program, the Assistant Secretary ensures an equitable geographic distribution among the regions of the United States and among urban, suburban, and rural areas.

Contingent upon the availability of funds, the Assistant Secretary may make additional awards in FY 2001 from the rank-ordered list of unfunded applications from this competition.

Eligible Applicants: Eligible applicants under this competition are local educational agencies (LEAs) only. LEAs may apply in consortia with one or more LEAs; however, each participating LEA must ensure that all requirements of the priority for this competition are met.

Deadline for Receipt of Applications: Applications for this competition must be received at the address specified in the notice inviting applications for this competition no later than 4:30 p.m. Eastern Time on June 9, 2000. Applications received after that time will not be read. Postmarked dates will not be accepted.

Absolute Priority: Under 34 CFR 75.105(c)(3) and Title X, Section 10102 of the Elementary and Secondary Education Act, the Assistant Secretary gives an absolute preference to applications that meet the following priority. The Assistant Secretary funds under this competition only applications that meet this absolute priority.

Under the absolute funding priority for this grant competition, LEA projects must establish or expand elementary school counseling programs at schools with at least one grade below fifth and no grade higher than eighth.

Statutory Requirements: The statute requires each program assisted under this competition to:

(1) Be comprehensive in addressing the personal, social, emotional, and educational needs of all students;

(2) Use a developmental, preventive approach to counseling;

(3) Increase the range, availability, quantity, and quality of counseling services in elementary schools of the local educational agency;

(4) Expand counseling services only through qualified school counselors, school psychologists, and school social workers;

(5) Use innovative approaches to increase children's understanding of peer and family relationships, work and self, decisionmaking, academic and career planning, or to improve social functioning;

(6) Provide counseling services that are well-balanced among classroom group and small group counseling, individual counseling, and consultation with parents, teachers, administrators, and other pupil services personnel;

(7) Include inservice training for school counselors, school social workers, school psychologists, other pupil services personnel, teachers, and instructional staff;

(8) Involve parents of participating students in the design, implementation, and evaluation of a counseling program;

(9) Involve collaborative efforts with institutions of higher education, businesses, labor organizations, community groups, social service agencies, or other public or private entities to enhance the program and promote school-linked services integration; and

(10) evaluate annually the effectiveness and outcomes of the counseling services and activities assisted under this program.

The statute also requires each applicant to—

(1) Assure that the funds made available under this grant for any fiscal year will be used to supplement and, to the extent practicable, increase the level of funds that would otherwise be available from non-Federal sources for the program described in the application, and must in no case supplant those funds from non-Federal sources; and

(2) Assure that the applicant will appoint an advisory board composed of parents, school counselors, school psychologists, school social workers, other pupil services personnel, teachers, school administrators, and community leaders to advise the LEA on the design and implementation of the counseling program.

Definitions: The following definitions apply to this competition:

(1) The term ‘school counselor’ means an individual who has documented competence in counseling children and adolescents in a school setting and who—

(A) Possesses State licensure or certification granted by an independent professional regulatory authority;

(B) In the absence of such State licensure or certification, possesses national certification in school counseling or a specialty of counseling granted by an independent professional organization; or

(C) Holds a minimum of a master's degree in school counseling from a program accredited by the Council for Accreditation of Counseling and Related Educational Programs or the equivalent;

(2) The term ‘school psychologist’ means an individual who—

(A) Possesses a minimum of 60 graduate semester hours in school psychology from an institution of higher education and has completed 1,200 clock hours in a supervised school psychology internship, of which 600 hours shall be in the school setting;

(B) Possesses State licensure or certification in the State in which the individual works; or

(C) In the absence of such State licensure or certification, possesses national certification by the National School Psychology Certification Board;

(3) The term ‘school social worker’ means an individual who holds a master's degree in social work and is licensed or certified by the State in which services are provided or holds a school social work specialist credential; and

(4) The term ‘supervisor’ means an individual who has the equivalent number of years of professional experience in such individual's respective discipline as is required of teaching experience for the supervisor or administrative credential in the State of such individual.

Selection Criteria: The following criteria will be used to evaluate applications for new grants under this competition. The maximum score for all of these criteria is 100 points.

(1) Need for the project. (20 points)

Applicants must propose projects that demonstrate the greatest need for new or additional counseling services among children in the elementary schools served by the project.

In determining applications with the greatest need, the following factors are considered:

(A) The magnitude or severity of the problem to be addressed by the proposed project.

(B) The magnitude of the need for the services to be provided or the activities to be carried out by the proposed project.

(C) The extent to which specific gaps or weaknesses in services, infrastructure, or opportunities have been identified and will be addressed by the proposed project, including the nature and magnitude of those gaps or weaknesses; and

(D) The magnitude of the need for the services to be provided or the activities to be carried out by the proposed project.

In describing the proposed project, applicants must:

(1) Describe the elementary school population to be targeted by the program; the particular personal, social, emotional, educational, and career development needs of such population; and the current school counseling resources available for meeting such needs; and

(2) Describe how any diverse cultural populations, if applicable, would be served through the program.

(2) Quality of the project design. (20 points)

Applicants must propose projects that demonstrate the most promising and innovative approaches for initiating or expanding counseling services in the target elementary schools.

The following factors are considered in determining the quality of the project design:

(A) The extent to which the design of the proposed project is appropriate to, and will successfully address, the counseling needs of the target population.

(B) The quality of the proposed demonstration design and procedures for documenting project activities and results.

(C) The extent to which the proposed project is designed to build capacity and yield results that will extend beyond the period of Federal financial assistance.

(D) The extent to which the proposed project will establish linkages with other appropriate agencies or organizations providing services to the target population.

In describing the project design, applicants must describe the activities, services, and training to be provided by the program and the specific approaches to be used to meet the needs of the target population.

(3) Significance of the project. (20 points)

Applicants must propose projects that demonstrate the greatest potential for replication and dissemination. The following factors are considered in determining the significance of the project:

(A) The likely utility of the products (such as information, materials, processes, or techniques) that will result from the proposed project, including the potential for their being used effectively in a variety of other settings.

(B) The extent to which the results of the proposed project are to be disseminated in ways that will enable others to use the information or strategies.

(C) The potential replicability of the proposed project or strategies, including, as appropriate, the potential for implementation in a variety of settings.

(D) The extent to which the design for implementing and evaluating the proposed project will result in information to guide possible replication of project activities, including information about effectiveness of the approach or strategies employed by the project.

(4) Quality of the project evaluation. (20 points)

Applicants must provide a detailed description of their plan to annually evaluate the outcomes and effectiveness of the proposed counseling services and strategies. The following factors are considered in determining the quality of the project evaluation:

(A) The extent to which the methods of evaluation are thorough, feasible, and appropriate to the goals, objectives, and outcomes of the proposed project.

(B) The extent to which the methods of evaluation provide for examining the effectiveness of project implementation strategies.

(C) The extent to which the methods of evaluation include the use of objective performance measures that are clearly related to the intended outcomes of the project and will produce quantitative and qualitative data to the extent possible.

(D) The extent to which the evaluation will provide guidance about effective strategies suitable for replication or testing in other settings.

In describing the proposed project evaluation, applicants must:

(1) Describe the methods to be used to evaluate the outcomes and effectiveness of the project.

(2) Agree to cooperate with any national evaluation of this grant competition that the Assistant Secretary may require.

(5) Quality of the management plan. (10 points)

Applicants must provide a detailed description of their plan to manage the activities outlined in their proposal. The following factors are considered in determining the quality of the management plan:

(A) The adequacy of the management plan to achieve the objectives of the proposed project on time and within budget, including clearly defined responsibilities, timelines, and milestones for accomplishing project tasks.

(B) The extent to which the time commitments of the project director and principal investigator and other key project personnel are appropriate and adequate to meet the objectives of the proposed project.

(C) How the applicant will ensure that a diversity of perspectives are brought to bear in the operation of the proposed project, including those of parents, teachers, the business community, a variety of disciplinary and professional fields, recipients or beneficiaries of services, or others, as appropriate.

In describing the management plan, applicants must:

(1) Describe the collaborative efforts to be undertaken with institutions of higher education, businesses, labor organizations, community groups, social service agencies, and other public or private entities to enhance the program and promote school-linked services integration; describe collaborative efforts with institutions of higher education which specifically seek to enhance or improve graduate programs specializing in the preparation of elementary school counselors, school psychologists, and school social workers; and

(2) Document that the applicant has the personnel qualified to develop, implement, and administer the program.

(6) Adequacy of resources. (10 points)

Applicants must describe the resources committed to the proposed project.

In determining the adequacy of resources for the proposed project, the following factors are considered:

(A) The relevance and demonstrated commitment of each partner in the proposed project to the implementation and success of the project.

(B) The extent to which the costs are reasonable in relation to the number of persons to be served and to the anticipated results and benefits.

(C) The potential for the incorporation of the project purposes, activities, or benefits into the ongoing program of the agency or organization at the end of Federal funding.

Waiver of Proposed Rulemaking

It is the Assistant Secretary's practice, in accordance with the Administrative Procedure Act (5 U.S.C. 553), to offer interested parties the opportunity to comment on proposed rules. Section 437(d)(1) of the General Education Provision Act (GEPA), however, exempts from this requirement rules that apply to the first competition under a new or substantially revised program. This is the first competition under the Elementary School Counseling Demonstration Program since that program was authorized as part of the Elementary and Secondary Education Act of 1965 as amended by the Improving America's Schools Act of 1994.

Intergovernmental Review

This program is subject to the requirements of Executive Order 12372 and the regulations in 34 CFR Part 79. One of the objectives of the Executive Order is to foster an intergovernmental partnership and a strengthened federalism. The Executive Order relies on processes developed by State and local government for coordination and review of proposed Federal financial assistance.

This document provides early notification of our specific plans and actions for this program.

Program Authority: 20 U.S.C. 8002

Electronic Access to This Document

You may review this document, as well as all other Department of Education documents published in the Federal Register, in text or portable document format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office, toll free, at 1-888-293-6498, or in the Washington, DC area at (202) 512-1530.

Note: The official version of this document is the document published in the Federal Register. Free Internet access to the official edition of the Federal Register and the Code of Federal Regulations is available on GPO Access at: http://www.access.gpo.gov/nara/index.html

(Catalogue of Federal Domestic Assistance Number: 84.215E, Elementary School Counseling Demonstration Program)

Dated: April 14, 2000.
Michael Cohen,
Assistant Secretary for Elementary and Secondary Education.

[FR Doc. 00-9781 Filed 4-14-00; 1:52 pm]

BILLING CODE 4000-01-P